DEPARTMENT OF DEFENSE

Department of the Army

Availability of Non-Exclusive, Exclusive or Partially Exclusive Licensing of U.S. Patent Concerning Electrospun Fibers and an Apparatus Therefor

Correction

In notice document 05-9311 appearing on page 24556 in the issue of Tuesday, May 10, 2005, make the following correction:

On page 24556, in the first column, under the heading FOR FURTHER INFORMATION CONTACT, in the sixth line, “Robert.Rosenkrans@nantick.army.mil” should read “Robert.Rosenkrans@natick.army.mil”.

[FR Doc. C5-9311 Filed 5-13-05; 8:45 am]

BILLING CODE 1505-01-D